DEPARTMENT OF ENERGY

Federal Energy Regulatory Commission

Combined Notice of Filings #1

Take notice that the Commission received the following electric corporate filings:

Docket Numbers: EC12-50-000.

Applicants: Alta Wind VIII, LLC, BAIF U.S. Renewable Power Holdings LLC.

Description: Alta Wind VIII, LLC, et. al. submits notice of consummation.

Filed Date: 1/27/12.

Accession Number: 20120127-5097.

Comments Due: 5 p.m. ET 2/17/12.

Docket Numbers: EC12-63-000.

Applicants: AEP Retail Energy Partners LLC, BlueStar Energy Services Inc.

Description: Section 203 Application of BlueStar Energy Services Inc. and AEP Retail Energy Partners LLC.

Filed Date: 1/26/12.

Accession Number: 20120126-5250.

Comments Due: 5 p.m. ET 2/16/12.

Take notice that the Commission received the following exempt wholesale generator filings:

Docket Numbers: EG12-26-000.

Applicants: Pattern Santa Isabel LLC.

Description: NOTICE OF SELF-CERTIFICATION OF EXEMPT WHOLESALE GENERATOR STATUS.

Filed Date: 1/26/12.

Accession Number: 20120126-5110.

Comments Due: 5 p.m. ET 2/16/12.

Docket Numbers: EG12-27-000.

Applicants: Mariposa Energy, LLC.

Description: Self-Certification of EG of Mariposa Energy, LLC.

Filed Date: 1/26/12.

Accession Number: 20120126-5148.

Comments Due: 5 p.m. ET 2/16/12.

Docket Numbers: EG12-28-000.

Applicants: Blue Summit Wind, LLC.

Description: Notice of Self-Certification of Exempt Wholesale Generator Status of Blue Summit Wind, LLC.

Filed Date: 1/27/12.

Accession Number: 20120127-5043.

Comments Due: 5 p.m. ET 2/17/12.

Docket Numbers: EG12-29-000.

Applicants: CPV Sentinel, LLC.

Description: CPV Sentinel, LLC Self-Certification of EWG Status.

Filed Date: 1/27/12.

Accession Number: 20120127-5106.

Comments Due: 5 p.m. ET 2/17/12.

Take notice that the Commission received the following electric rate filings:

Docket Numbers: ER08-565-000.

Applicants: Pacific Gas and Electric Company.

Description: Compliance Refund Report of Pacific Gas and Electric Company.

Filed Date: 1/27/12.

Accession Number: 20120127-5149.

Comments Due: 5 p.m. ET 2/17/12.

Docket Numbers: ER10-1852-002.

Applicants: Florida Power & Light Company.

Description: Florida Power & Light Company Notice of Change in Status.

Filed Date: 1/26/12.

Accession Number: 20120126-5249.

Comments Due: 5 p.m. ET 2/16/12.

Docket Numbers: ER10-2794-003; ER10-2849-002; ER11-2028-003; ER11-3642-003.

Applicants: EDF Trading North America, LLC, EDF Industrial Power Services (IL), LLC, EDF Industrial Power Services (NY), LLC, Tanner Street Generation, LLC.

Description: Notice of Non-Material Change in Status of EDF Trading North America, LLC, et. al.

Filed Date: 1/27/12.

Accession Number: 20120127-5202.

Comments Due: 5 p.m. ET 2/17/12.

Docket Numbers: ER12-455-001.

Applicants: Southwest Power Pool, Inc.

Description: Compliance Filing in Order No. ER12-455—Attachment W to be effective 1/17/2012.

Filed Date: 1/26/12.

Accession Number: 20120126-5173.

Comments Due: 5 p.m. ET 2/16/12.

Docket Numbers: ER12-682-001.

Applicants: Erie Wind, LLC.

Description: Supplement to MBR Application of Erie Wind, LLC to be effective 12/24/2011.

Filed Date: 1/26/12.

Accession Number: 20120126-5216.

Comments Due: 5 p.m. ET 2/6/12.

Docket Numbers: ER12-898-000.

Applicants: Southwest Power Pool, Inc.

Description: 1517R5 DeWind Frisco, LLC SGIA to be effective 12/27/2011.

Filed Date: 1/26/12.

Accession Number: 20120126-5146.

Comments Due: 5 p.m. ET 2/16/12.

Docket Numbers: ER12-899-000.

Applicants: Dominion Energy Manchester Street, Inc.

Description: Compliance Filing—Designation of Filer to be effective 1/26/2012.

Filed Date: 1/26/12.

Accession Number: 20120126-5180.

Comments Due: 5 p.m. ET 2/16/12.

Docket Numbers: ER12-900-000.

Applicants: Kincaid Generation, L.L.C.

Description: Compliance Filing—Designation of Filer to be effective 1/26/2012.

Filed Date: 1/26/12.

Accession Number: 20120126-5190.

Comments Due: 5 p.m. ET 2/16/12.

Docket Numbers: ER12-901-000.

Applicants: New England Power Company.

Description: Local Service Agreement with Mansfield Municipal Electric Department to be effective 1/1/2012.

Filed Date: 1/26/12.

Accession Number: 20120126-5191.

Comments Due: 5 p.m. ET 2/16/12.

Docket Numbers: ER12-902-000.

Applicants: Elwood Energy, LLC.

Description: Compliance Filing—Designation of Filer to be effective 1/26/2012.

Filed Date: 1/26/12.

Accession Number: 20120126-5195.

Comments Due: 5 p.m. ET 2/16/12.

Docket Numbers: ER12-903-000.

Applicants: Dominion Nuclear Connecticut, Inc.

Description: Compliance Filing—Designation of Filer to be effective 1/26/2012.

Filed Date: 1/26/12.

Accession Number: 20120126-5199.

Comments Due: 5 p.m. ET 2/16/12.

Docket Numbers: ER12-904-000.

Applicants: Southwest Power Pool, Inc.

Description: 2304 Post Rock Wind Power Project, LLC GIA to be effective 12/27/2011.

Filed Date: 1/26/12.

Accession Number: 20120126-5212.

Comments Due: 5 p.m. ET 2/16/12.

Docket Numbers: ER12-905-000.

Applicants: Southern California Edison Company.

Description: SGIA SCE—Windpower Partners 1993, L.P. Buck Wind Park Project to be effective 12/28/2011.

Filed Date: 1/26/12.

Accession Number: 20120126-5213.

Comments Due: 5 p.m. ET 2/16/12.

Docket Numbers: ER12-906-000.

Applicants: Southwestern Electric Power Company.

Description: 20120126 Minden Revised PSA to be effective 12/17/2010.

Filed Date: 1/26/12.

Accession Number: 20120126-5224.

Comments Due: 5 p.m. ET 2/16/12.

Docket Numbers: ER12-907-000.

Applicants: Southwestern Electric Power Company.

Description: 20120126 Prescott Revised PSA to be effective 12/17/2010.

Filed Date: 1/26/12.

Accession Number: 20120126-5227.

Comments Due: 5 p.m. ET 2/16/12.

Docket Numbers: ER12-908-000.

Applicants: PJM Interconnection, L.L.C.

Description: Original Service Agreement No. 3182; Queue No. W3-140 to be effective 12/28/2011.

Filed Date: 1/27/12.

Accession Number: 20120127-5065.

Comments Due: 5 p.m. ET 2/17/12.

Docket Numbers: ER12-909-000.

Applicants: Westar Energy, Inc.

Description: Amendment, OATT Sections 15.7 and 28.5 to be effective 4/1/2012.

Filed Date: 1/27/12.

Accession Number: 20120127-5066.

Comments Due: 5 p.m. ET 2/17/12.

Docket Numbers: ER12-910-000.

Applicants: PJM Interconnection, L.L.C., Duke Energy Ohio, Inc.

Description: PJM Interconnection, L.L.C. submits tariff filing per 35.13(a)(2)(iii: Duke submits PJM Service Agreement No. 3193 to be effective 1/1/2012.

Filed Date: 1/27/12.

Accession Number: 20120127-5095.

Comments Due: 5 p.m. ET 2/17/12.

Docket Numbers: ER12-911-000.

Applicants: CPV Sentinel, LLC.

Description: CPV Sentinel, LLC submits tariff filing per 35.12: Market-Based Rate Application to be effective 3/27/2012.

Filed Date: 1/27/12.

Accession Number: 20120127-5113.

Comments Due: 5 p.m. ET 2/17/12.

Docket Numbers: ER12-912-000.

Applicants: PJM Interconnection, L.L.C.

Description: PJM Interconnection, L.L.C. submits tariff filing per 35.13(a)(2)(iii: Queue Position W1-113; Original Service Agreement No. 3195 to be effective 12/28/2011.

Filed Date: 1/27/12.

Accession Number: 20120127-5122.

Comments Due: 5 p.m. ET 2/17/12.

Docket Numbers: ER12-913-000.

Applicants: Midwest Independent Transmission System Operator, Inc.

Description: Midwest Independent Transmission System Operator, Inc. submits tariff filing per 35.13(a)(2)(iii: CapX-Brookings-GRE T-T to be effective 1/28/2012.

Filed Date: 1/27/12.

Accession Number: 20120127-5165.

Comments Due: 5 p.m. ET 2/17/12.

Docket Numbers: ER12-914-000.

Applicants: Midwest Independent Transmission System Operator, Inc.

Description: Midwest Independent Transmission System Operator, Inc. submits tariff filing per 35.13(a)(2)(iii: CapX-Brookings-NSPM T-T to be effective 1/28/2012.

Filed Date: 1/27/12.

Accession Number: 20120127-5167.

Comments Due: 5 p.m. ET 2/17/12.

Docket Numbers: ER12-915-000.

Applicants: PJM Interconnection, L.L.C.

Description: PJM Interconnection, L.L.C. submits tariff filing per 35.13(a)(2)(iii: Original Service Agreement No. 3194; Queue Position W4-010 to be effective 12/28/2011.

Filed Date: 1/27/12.

Accession Number: 20120127-5171.

Comments Due: 5 p.m. ET 2/17/12.

Docket Numbers: ER12-916-000.

Applicants: Twin Cities Energy, LLC.

Description: Twin Cities Energy, LLC submits tariff filing per 35.15: Cancellation of Market-Based Rate Tariff to be effective 3/27/2012.

Filed Date: 1/27/12.

Accession Number: 20120127-5183.

Comments Due: 5 p.m. ET 2/17/12.

Docket Numbers: ER12-917-000.

Applicants: TC Energy Trading, LLC.

Description: TC Energy Trading, LLC submits tariff filing per 35.15: Cancellation of Market-Based Rate Tariff to be effective 3/27/2012.

Filed Date: 1/27/12.

Accession Number: 20120127-5189.

Comments Due: 5 p.m. ET 2/17/12.

Docket Numbers: ER12-918-000.

Applicants: FirstEnergy Solutions Corp.

Description: Application of FirstEnergy Solutions Corp. for Authorization to Sell Electricity to Potomac Edison Company, an affiliate.

Filed Date: 1/27/12.

Accession Number: 20120127-5195.

Comments Due: 5 p.m. ET 2/17/12.

Take notice that the Commission received the following land acquisition reports:

Docket Numbers: LA11-4-000.

Applicants: NextEra Energy Companies, Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Crystal Lake Wind, LLC, Crystal Lake Wind II, LLC, Crystal Lake Wind III,LLC, Day County Wind, LLC, Diablo Winds, LLC, Elk City Wind, LLC, Elk City II Wind, LLC, Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL, Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, Garden Wind, LLC, Gray County Wind Energy, LLC, Hatch Solar Energy Center I, LLC, Hawkeye Power Partners, LLC, High Majestic Wind Energy Center, LLC, High Winds, LLC, Jamaica Bay Peaking Facility, LLC, Lake Benton Power Partners II, LLC, Langdon Wind, LLC, Logan Wind Energy LLC, Meyersdale Windpower LLC, Mill Run Windpower, LLC, Minco Wind, LLC, Minco Wind II, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, Northern Colorado Wind Energy, LLC, Osceola Windpower, LLC, Osceola Windpower II, LLC, Paradise Solar Urban Renewal, L.L.C., Peetz Table Wind Energy, LLC, Pennsylvania Windfarms, Inc., Perrin Ranch Wind, LLC, Red Mesa Wind, LLC, Sky River LLC, Somerset Windpower, LLC, Story Wind, LLC, Vasco Winds, LLC, Victory Garden Phase IV, LLC, Waymart Wind Farm, L.P., Wessington Wind Energy Center, LLC, White Oak Energy LLC, Wilton Wind II, LLC, Windpower Partners 1993, L.P.

Description: NextEra Energy Companies 2011 4th Quarter Report on the Acquisition of Control of a Site or Sites for New Generation Capacity Development.

Filed Date: 1/26/12.

Accession Number: 20120126-5252.

Comments Due: 5 p.m. ET 2/16/12.

Docket Numbers: LA11-4-000.

Applicants: East Coast Power Linden Holding, LLC, Cogen Technologies Linden Venture, L.P., Fox Energy Company, LLC, Birchwood Power Partners, L.P., Shady Hills Power Company, L.L.C., EFS Parlin Holdings, LLC, and Inland Empire Energy Center, LLC.

Description: Quarterly Report on the Acquisition of Control of a Site or Sites for New Generation Capacity Development for East Coast Power Linden Holding, LLC, et. al.

Filed Date: 1/27/12.

Accession Number: 20120127-5182.

Comments Due: 5 p.m. ET 2/17/12.

Take notice that the Commission received the following PURPA 210(m)(3) filings:

Docket Numbers: QM12-2-000.

Applicants: Public Service Company of New Mexico.

Description: Response of Public Service of New Mexico to January 19, 2012 Deficiency Letter.

Filed Date: 1/26/12.

Accession Number: 20120126-5188.

Comments Due: 5 p.m. ET 2/16/12.

The filings are accessible in the Commission's eLibrary system by clicking on the links or querying the docket number.

Any person desiring to intervene or protest in any of the above proceedings must file in accordance with Rules 211 and 214 of the Commission's Regulations (18 CFR 385.211 and 385.214) on or before 5:00 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2012.
Nathaniel J. Davis, Sr.,
Deputy Secretary.

[FR Doc. 2012-2711 Filed 2-6-12; 8:45 am]

BILLING CODE 6717-01-P